DEPARTMENT OF THE INTERIOR

Fish and Wildlife Service

[FWS-R4-ES-2008-N00135; ABC Code: F2]

Construction of Two Single-Family Homes in Volusia County, FL

AGENCY: Fish and Wildlife Service, Interior.

ACTION: Notice: receipt of application for an incidental take permit; request for comments.

SUMMARY: We, the Fish and Wildlife Service (Service), announce the availability of two Incidental Take Permit (ITP) Applications and Habitat Conservation Plans (HCPs). Today Homes Development, Inc. (applicant) requests two ITPs for a 1-year duration under the Endangered Species Act of 1973, as amended (Act). The applicant anticipates taking approximately 0.38 acre of Florida scrub-jay (Alphelocoma coerulescens)-occupied habitat incidental to construction of two single family homes in Volusia County, Florida (projects). The applicant's HCPs describe the mitigation and minimization measures the applicant proposes to address the effects of the projects to the scrub-jay.

DATES: We must receive any written comments on the ITP applications and HCPs on or before July 11, 2008.

ADDRESSES: If you wish to review the applications and HCPs, you may write the Field Supervisor at our Jacksonville Field Office, 6620 Southpoint Drive South, Suite 310, Jacksonville, FL 32216, or make an appointment to visit during normal business hours. If you wish to comment, you may mail or hand deliver comments to the Jacksonville Field Office, or you may e-mail comments to paula_sisson@fws.gov. For more information on reviewing documents and public comments and submitting comments, see SUPPLEMENTARY INFORMATION.

FOR FURTHER INFORMATION CONTACT: Paula Sisson, Fish and Wildlife Biologist, Jacksonville Field Office (see ADDRESSES); telephone: 904/232-2580, ext. 126.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Please reference permit number TE171478-0 and TE176780-0 for Today Homes Development, Inc. in all requests or comments. Please include your name and return address in your e-mail message. If you do not receive a confirmation from us that we have received your e-mail message, contact us directly at the telephone number listed under FOR FURTHER INFORMATION CONTACT.

Background

The Florida scrub-jay is found exclusively in peninsular Florida and is restricted to xeric upland communities (predominately in oak-dominated scrub with open canopies) of the interior and Atlantic coast sand ridges. Increasing urban and agricultural development has resulted in habitat loss and fragmentation, which have adversely affected the distribution and numbers of scrub-jays. Remaining habitat is largely degraded due to the exclusion of fire, which is needed to maintain xeric uplands in conditions suitable for scrub-jays. The total estimated population is between 7,000 and 11,000 individuals.

Applicant's Proposal

The applicant is requesting take of approximately 0.38 ac of occupied scrub-jay habitat incidental to the projects. Both proposed projects are located in Section 09, Township 18, Range 30, in Orange City, Florida. The proposed projects currently include residential construction, including house pad, infrastructure, and landscaping. The applicant proposes to mitigate for the take of the Florida scrub-jay at a ratio of 2:1 based on Service Mitigation Guidelines. The applicant proposes to mitigate for the loss of 0.38 ac of occupied scrub-jay habitat by contributing a total of $20,589.92 to the Florida Scrub-jay Conservation Fund administered by The Nature Conservancy. Funds in this account are earmarked for use in the conservation and recovery of scrub-jays and may include habitat acquisition, restoration, and/or management. As minimization for impacts to the species, clearing activities during project construction will occur outside the scrub-jay nesting season (March 1—June 30).

We have determined that the applicant's proposal, including the proposed mitigation and minimization measures, would have minor or negligible effects on the species covered in the HCPs. Therefore, the ITPs are “low-effect” projects and qualify for categorical exclusions under the National Environmental Policy Act (NEPA), as provided by the Department of the Interior Manual (516 DM 2 Appendix 1 and 516 DM 6 Appendix 1). This preliminary information may be revised based on our review of public comments that we receive in response to this notice. A low-effect HCP is one involving (1) minor or negligible effects on federally listed or candidate species and their habitats, and (2) minor or negligible effects on other environmental values or resources.

We will evaluate the HCPs and comments submitted thereon to determine whether the applications meet the requirements of section 10(a) of the Act (16 U.S.C. 1531 et seq.). If we determine that the applications meet those requirements, we will issue the ITPs for incidental take of the scrub-jay. We will also evaluate whether issuance of the section 10(a)(1)(B) ITPs comply with section 7 of the Act by conducting an intra-Service section 7 consultation. We will use the results of this consultation, in combination with the above findings, in the final analysis to determine whether or not to issue the ITPs.

Authority: We provide this notice under Section 10 of the Act and NEPA regulations (40 CFR 1506.6).

Dated: June 2, 2008.
David L. Hankla,
Field Supervisor, Jacksonville Field Office.

[FR Doc. E8-13045 Filed 6-10-08; 8:45 am]

BILLING CODE 4310-55-P